FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before June 7, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-XXXX.

Title: Sections 1.1307(b)(1), 20.3, 20.21(a)(2), 20.21(a)(5), 20.21(e)(2), 20.21(e)(8)(i)(G), 20.21(e)(9)(i)(H), 20.21(f), 20.21(h), 90.203, 90.219(b)(1)(i), 90.219(d)(5) and 90.219(e)(5)—Signal Boosters.

Form Number: N/A.

Type of Review: New collection.

Respondents: Individuals or households, business or other for-profit entities, not-for-profit institutions, Federal Government, farms, and state, local or tribal government.

Number of Respondents: 634,595 respondents; 634,595 responses.

Estimated Time per Response: 5 minutes up to 5 hours.

Frequency of Response: On occasion, annual and every 10 reporting requirements, recordkeeping requirement and third party disclosure requirement.

Obligation to Respond: Required to obtain or retain benefits. Statutory authority for this information collection is contained in 47 U.S.C. 154(i), 303(g), 303(r) and 332(a).

Total Annual Burden: 4,167 hours.

Total Annual Cost: N/A.

Privacy Impact Assessment: Yes. The Commission has a system of records for this information collection, FCC/WTB-1, “Wireless Services Licensing Records”, which covers the personally identifiable information (PII) that individual applicants may include in their submissions for licenses or grants of equipment authorization.

At such time as the Commission revises this System of Records Notice (SORN), the Commission will conduct a Privacy Act Impact Assessment (PIA) and publish the revised SORN in the Federal Register. In addition, the Commission will post a copy of both the PIA and the SORN on the FCC's Privacy Web page.

Nature and Extent of Confidentiality: There is a need for confidentiality with respect to filers who are individuals in this collection. Pursuant to section 208(b) of the E-Government Act of 2002, 44 U.S.C. 3501, in conformance with the Privacy Act of 1974, 5 U.S.C. 552(a), the Commission's Wireless Telecommunications Bureau instructs licensees to use the FCC's Universal Licensing System (ULS), Antenna Structure Registration (ASR), Commission Registration System (CORES) and related systems and subsystems to submit information.

Needs and Uses: The Commission will submit this information collection after this comment period to obtain the full, three year clearance from the Office of Management and Budget (OMB). The Commission is requesting approval for this new information collection.

The Commission adopted a Report and Order (R&O) in FCC 13-21, which implements new technical, operational and registration requirements for signal boosters. The new rules create two classes of signal boosters—consumer and industrial—with distinct regulatory requirements.

Consumer Signal Boosters are designed to be used “out of the box” by individuals to improve their wireless coverage within a limited areas such as a home, car, boat, or recreational vehicle. Consumer Signal Boosters will be authorized under provider licenses subject to certain requirements. Specifically, subscribers must obtain some form of licensee consent to operate the booster; register the booster with their provider; use a booster that meets the Network Protection Standard and is FCC certificated; and operate the booster on a secondary, non-interference basis and shut it down if it causes harmful interference. Consumers may continue to use existing signal boosters provided they (1) have the consent of their provider; and (2) register the booster with that provider. The Commission will conduct consumer outreach to educate consumers, public safety entities, small businesses, and others about our new regulatory framework.

Industrial Signal Boosters include a wide variety of devices that are designed for installation by licensees or qualified installers. These devices are typically designed to serve multiple users simultaneously and cover large areas such as stadiums, airports, office buildings, hospitals, tunnels and educational campuses. Industrial Signal Boosters require a FCC license or express licensee consent to operate, and must be appropriately labeled. The Report and Order also revises technical and operational requirements for duly licensed Part 90 Private Land Mobile Radio (PLMR), non-consumer signal boosters, and adopts a registration requirement for Part 90 Class B signal boosters.

The Commission established a two-step transition process for equipment certification for both Consumer and Industrial Signal Boosters sold and marketed in the United States. First, as of the release date of the R&O, the Commission stopped accepting applications for equipment certifications of Consumer and Industrial Signal Boosters that do not comply with the new rules and ceased certification of devices that do not comply with the new rules. Second, on or after March 1, 2014, all Consumer and Industrial Signal Boosters sold and marketed in the United States must meet the new requirements.

OMB Control Number: 3060-XXXX.

Title: Section 87.287, Aeronautical Advisory Stations (Unicoms).

Form Number: N/A.

Type of Review: New collection.

Respondents: Individuals or households, business or other for-profit entities, not-for-profit institutions, and state, local or tribal government.

Number of Respondents: 200 respondents; 200 responses.

Estimated Time per Response: 1 hour.

Frequency of Response: On occasion reporting requirement and third party disclosure requirement.

Obligation to Respond: Required to obtain or retain benefits. Statutory authority for this collection of information is contained in 47 U.S.C. 151, 154(i), 154(j), 155, 157, 225, 303(r) and 309.

Total Annual Burden: 200 hours.

Total Annual Cost: $28,750.

Privacy Impact Assessment: Yes. The Commission has a system of records for this information collection, FCC/WTB-1, “Wireless Services Licensing Records”, which covers the personally identifiable information (PII) that individual applicants may include in their submissions for licenses or grants of equipment authorization. At such time as the Commission revises this System of Records Notice (SORN), the Commission will conduct a Privacy Act Impact Assessment (PIA) and publish the revised SORN in the Federal Register. In addition, the Commission will post a copy of both the PIA and the SORN on the FCC's Privacy Web page.

Nature and Extent of Confidentiality: There is a need for confidentiality with respect to filers who are individuals in this collection. Pursuant to section 208(b) of the E-Government Act of 2002, 44 U.S.C. 3501, in conformance with the Privacy Act of 1974, 5 U.S.C. 552(a), the Commission's Wireless Telecommunications Bureau instructs licensees to use the FCC's Universal Licensing System (ULS), Antenna Structure Registration (ASR), Commission Registration System (CORES) and related systems and subsystems to submit information.

Needs and Uses: The Commission will submit this information collection after this comment period to obtain the full, three year clearance from the Office of Management and Budget (OMB). The Commission is requesting OMB approval for a new collection.

On March 1 2013, the Commission released a Report and Order, FCC 13-30, which amended its Part 87 rules to authorize new ground station technologies that will promote aviation safety, and allow use of frequency 1090 MHz by aeronautical utility mobile stations for airport surface detection equipment, commonly referred to as vehicle “squitters”, to help reduce collisions between aircraft and airport ground vehicles. “Squitter” refers to random output pulses from a transponder caused by ambient noise or by an intentional random triggering system, but not by the interrogation pulses. Further, the Commission establishes service rules for audio visual warning systems to help aircraft in flight avoid antenna structures and other obstacles, and adopts rules to permit ground testing of aviation data link test systems. However, in this R&O, the Commission declined to authorize remote monitoring of certain automated ground stations.

Section 87.287(b) requires that before submitting an application for an aircraft data link land test station, an applicant must obtain written permission from the licensee of the aeronautical enroute stations serving the areas in which the aircraft data link land test station will operate on a co-channel basis. The Commission may request an applicant to provide documentation as to this fact.

The written permission will aid the Commission in ensuring that licensees are complying with its policies and rules, while allowing the owners of antenna structures and other aviation obstacles to use Audio Visual Warning Systems (AVWS) stations, thereby helping aircraft avoid potential collisions and enhancing aviation safety, without causing harmful interference to other communications.

Federal Communications Commission.
Marlene H. Dortch,
Secretary.

[FR Doc. 2013-08019 Filed 4-5-13; 8:45 am]

BILLING CODE 6712-01-P